DEPARTMENT OF VETERANS AFFAIRS

[OMB Control No. 2900-0393]

Proposed Information Collection Activity: Proposed Collection; Comment Request

AGENCY: Office of Acquisition and Materiel Management, Department of Veterans Affairs

ACTION: Notice.

SUMMARY: The Office of Acquisition and Materiel Management (OA&MM), Department of Veterans Affairs (VA), is announcing an opportunity for public comment on the proposed collection of certain information by the agency. Under the Paperwork Reduction Act (PRA) of 1995, Federal agencies are required to publish notice in the Federal Register concerning each proposed collection of information, including each proposed reinstatement, with change, of a previously approved collection for which approval has expired, and allow 60 days for public comment in response to the notice. This notice solicits comments on the information needed to allow VA to issue purchase orders for the acquisition of the goods and services used for operation of the Department.

DATES: Written comments and recommendations on the proposed collection of information should be received on or before October 23, 2001.

ADDRESSES: Submit written comments on the collection of information to Donald E. Kaliher, Office of Acquisition and Materiel Management (95A), Department of Veterans Affairs, 810 Vermont Avenue, NW, Washington, DC 20420 or e-mail donald.kaliher@mail.va.gov. Please refer to “OMB Control No. 2900-0393” in any correspondence.

FOR FURTHER INFORMATION CONTACT: Donald E. Kaliher at (202) 273-8819.

SUPPLEMENTARY INFORMATION: Under the PRA of 1995 (Pub. L. 104-13; 44 U.S.C., 3501-3520), Federal agencies must obtain approval from the Office of Management and Budget (OMB) for each collection of information they conduct or sponsor. This request for comment is being made pursuant to Section 3506(c)(2)(A) of the PRA.

With respect to the following collection of information, OA&MM invites comments on: (1) Whether the proposed collection of information is necessary for the proper performance of OA&MM's functions, including whether the information will have practical utility; (2) the accuracy of OA&MM's estimate of the burden of the proposed collection of information; (3) ways to enhance the quality, utility, and clarity of the information to be collected; and (4) ways to minimize the burden of the collection of information on respondents, including through the use of automated collection techniques or the use of other forms of information technology.

Title: VA Acquisition Regulation (VAAR) Part 813.

OMB Control Number: 2900-0393.

Type of Review: Reinstatement, with change, of a previously approved collection for which approval has expired.

Abstract: VA issues requests for quotations (RFQs) under the procedures of the Federal Acquisition Regulation (FAR) Part 13 and VAAR Part 813 for the acquisition of the goods and services necessary to operate the Department. In addition, VA requests information from vendors for the purpose of establishing blanket purchase agreements (BPAs). Any individual or business wishing to submit an offer on an RFQ or respond to a request for the establishment of a BPA may do so. VA will use the information to determine to which business or individual VA should issue a purchase order for the acquisition of goods or services or to determine with which business or individual VA should establish a BPA. This collection of information covers only those acquisition-related actions conducted under the procedures of FAR Part 13 and VAAR Part 813 that affect 10 or more persons and are, therefore, subject to the PRA. Such actions include open market competitive acquisitions between $25,000 and $100,000 and, for commercial items, acquisitions between $100,000 and $5 million where simplified procedures are used.

Affected Public: Business or other for-profit; individuals and households; and not-for-profit institutions.

Estimated Annual Burden: 10,650 hours.

Estimated Average Burden Per Respondent: 1 hour.

Frequency of Response: On occasion.

Estimated Number of Respondents: 10,650.

Dated: August 7, 2001.
By direction of the Secretary.
Donald L. Neilson,
Director, Information Management Service.

[FR Doc. 01-21500 Filed 8-23-01; 8:45 am]

BILLING CODE 8320-01-U